DEPARTMENT OF HOMELAND SECURITY

[Docket No. DHS—2016—0068]

Agency Information Collection Activities: DHS Civil Rights Compliance Form

AGENCY: Office for Civil Rights and Civil Liberties, DHS.

ACTION: 60-Day notice and request for comments; New Collection, 1601-NEW.

SUMMARY: The Department of Homeland Security (DHS), Office for Civil Rights and Civil Liberties, will submit the following Information Collection Request (ICR) to the Office of Management and Budget (OMB) for review and clearance in accordance with the Paperwork Reduction Act of 1995.

DATES: Comments are encouraged and will be accepted until November 21, 2016. This process is conducted in accordance with 5 CFR 1320.1

ADDRESSES: You may submit comments, identified by docket number DHS-2016-0068, by one of the following methods:

• Federal eRulemaking Portal: http://www.regulations.gov. Please follow the instructions for submitting comments.

• Email: dhs.pra@hq.dhs.gov. Please include docket number DHS-2016-0068 in the subject line of the message.

SUPPLEMENTARY INFORMATION: Recipients of Federal financial assistance from DHS are required to meet certain legal requirements relating to nondiscrimination and nondiscriminatory use of Federal funds. Those requirements include ensuring that entities receiving Federal financial assistance from DHS do not deny benefits or services, or otherwise discriminate on the basis of race, color, national origin, disability, age, or sex, in accordance with the following authorities: Title VI of the Civil Rights Act of 1964 (Title VI) Public Law 88-352, 42 U.S.C. 2000d-1 et seq., and the Department's implementing regulation, 6 CFR part 21 and 44 CFR part 7; section 504 of the Rehabilitation Act of 1973 (sec. 504), Public Law 93-112, as amended by Public Law 93-516, 29 U.S.C. 794; title IX of the Education Amendments of 1972 (Title IX), 20 U.S.C. 1681 et seq., and the Department's implementing regulations, 6 CFR part 17, and 44 CFR part 19; Age Discrimination Act of 1975, Public Law 94-135, 42 U.S.C. 6101 et seq., and the Department implementing regulation at 44 CFR part 7.

DHS has an obligation to enforce nondiscrimination requirements to ensure that its Federally-assisted programs and activities are administered in a nondiscriminatory manner. In order to carry out its enforcement responsibilities, DHS must obtain a signed assurance of compliance and collect and review information from recipients to ascertain their compliance with applicable requirements. DHS implementing regulations and the Department of Justice (DOJ) regulation Coordination of Non-discrimination in Federally Assisted Program, 28 CFR part 42, provide for the collection of data and information from recipients (see 28 CFR 42.406).

DHS has developed the DHS Civil Rights Compliance Form as the primary tool to implement this information collection. The purpose of the information collection is to advise recipients of their civil rights obligation; obtain an assurance of compliance from each recipient, and collect pertinent civil rights information to ascertain if the recipient has in place adequate policies and procedures to achieve compliance, and to determine what, if any, further action may be needed (technical assistance, training, compliance review, etc.) to ensure the recipient is in compliance and will carry out its programs and activities in a nondiscriminatory manner. DHS will make available sample policies and procedures to assist recipients in completing Section 4 of the Form, and providing technical assistance directly to recipients as needed.

DHS will use the DHS Civil Rights Compliance Form to collect civil rights related information from all primary recipients of Federal financial assistance from the Department. Primary recipients are non-federal entities that receive Federal financial assistance in the form of a grant, cooperative agreement, or other type of financial assistance directly from the Department and not through another recipient or “pass-through” entity. This information collection does not apply to sub-recipients, Federal contractors (unless the contract includes the provision of financial assistance), nor the ultimate beneficiaries of services, financial aid, or other benefits from the Department. Recipients will be required to provide the information once every two years, not every time a grant is awarded. Entities whose award does not run a full two years are required to provide the information again if they receive a subsequent award more than two (2) years after the prior award. In responding to Section 4: Required Information, which contains the bulk of the information collection, if the recipient's responses have not changed in the two year period since their initial submission, the recipient does not need to resubmit the information. Instead, the recipient will indicate “no change” for each applicable item. DHS will require recipients to submit their completed forms and supporting information electronically, via email, to the Department, in an effort to minimize administrative burden on the recipient and the Department. DHS anticipates that records or files that will be used to respond to the information collection are already maintained in electronic format by the recipient, so providing the information electronically will further minimize administrative burden. DHS will allow recipients to scan and submit documents that are not already maintained electronically. If the recipient is unable to submit their information electronically, alternative arrangements will be made to submit responses in hard copy.

There are no confidentiality assurances associated with this collection. The system of record notices associated with this information collection are: DHS/ALL-029—Civil Rights and Civil Liberties Records, (July 8, 2010, 75 FR 39266) and DHS/ALL-016—Department of Homeland Security Correspondence Records, (November 10, 2008, 73 FR 66657). The privacy impact assessment associated with this information collection is pending. The DHS Civil Rights Compliance Form is subject to the Privacy Act and will contain a Privacy Act Statement.

This is a new information collection. The Office of Management and Budget is particularly interested in comments which:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Office for Civil Rights and Civil Liberties, DHS.

Title: Agency Information Collection Activities: DHS Civil Rights Compliance Form.

OMB Number: 1601—NEW.

Frequency: Bi-annually.

Affected Public: Private and Public Sector.

Number of Respondents: 2,220.

Estimated Time per Respondent: 4 hours.

Total Burden Hours: 8,880 hours.

Dated: September 16, 2016.
Carlene C. Ileto,
Executive Director, Enterprise Business Management Office.

[FR Doc. 2016-22782 Filed 9-21-16; 8:45 am]

BILLING CODE 9110-9B-P